NUCLEAR REGULATORY COMMISSION

[Docket Nos. 52-025-COL, 52-026-COL; 52-039-COL; 52-034-COL, 52-035-COL; ASLBP No. 11-914-02-COL-BD01]

Southern Nuclear Operating Co., PPL Bell Bend, L.L.C., Luminant Generation Company LLC; Establishment of Atomic Safety and Licensing Board

Pursuant to delegation by the Commission dated December 29, 1972, published in the Federal Register, 37 FR 28,710 (1972), and the Commission's regulations, see, e.g., 10 CFR 2.104, 2.105, 2.300, 2.309, 2.313, 2.318, and 2.321, notice is hereby given that an Atomic Safety and Licensing Board (Board) is being established to preside over this proceeding, which involves the following captioned cases:

Southern Nuclear Operating Co., (Vogtle Electric Generating Plant, Units 3 and 4), Docket Nos. 52-025-COL & 52-026-COL.

PPL Bell Bend, L.L.C., (Bell Bend Nuclear Power Plant), Docket No. 52-039-COL.

Luminant Generation Company LLC, (Comanche Peak Nuclear Power Plant, Units 3 and 4), Docket Nos. 52-034-COL & 52-035-COL.

This proceeding was triggered by the following recent filings that were based on the Fukushima Task Force Report: (1) The Center for a Sustainable Coast, Georgia Women's Action for New Directions, and Southern Alliance for Clean Energy filed a motion to reopen the record and admit a new contention in the above-captioned Vogtle case; (2) Gene Stilp filed a motion to reopen the record and admit a new contention in the above-captioned Bell Bend case; and (3) Public Citizen, the Sustainable Energy and Economic Development Coalition, and Lon Burnam filed a motion to reopen the record and admit a new contention in the above-captioned Comanche Peak case. The contested proceedings in these cases had been terminated at the Atomic Safety and Licensing Board Panel (ASLBP) level, and jurisdiction over these filings initially lay with the Commission. By order dated August 30, 2011, the Commission, acting through the Office of the Secretary, referred the pleadings to the ASLBP for appropriate action consistent with 10 CFR 2.309 and 2.326.

The Board is comprised of the following administrative judges:

Alan S. Rosenthal, Chair, Atomic Safety and Licensing Board Panel, U.S. Nuclear Regulatory Commission, Washington, DC 20555-0001.

Dr. Gary S. Arnold, Atomic Safety and Licensing Board Panel, U.S. Nuclear Regulatory Commission, Washington, DC 20555-0001.

Dr. William H. Reed, Atomic Safety and Licensing Board Panel, U.S. Nuclear Regulatory Commission, Washington, DC 20555-0001.

All correspondence, documents, and other materials shall be filed in accordance with the NRC E-Filing rule, which the NRC promulgated in August 2007 (72 FR 49,139).

Issued at Rockville, Maryland this 6th day of September 2011.
E. Roy Hawkens,
Chief Administrative Judge, Atomic Safety and Licensing Board anel.

[FR Doc. 2011-23221 Filed 9-9-11; 8:45 am]

BILLING CODE 7590-01-P